DEPARTMENT OF ENERGY

Federal Energy Regulatory Commission

[Docket No. RP02-236-001]

Transwestern Pipeline Company; Notice of Compliance Filing

July 12, 2002.

Take notice that on July 3, 2002, Transwestern Pipeline Company (Transwestern) tendered for filing as part of its FERC Gas Tariff, Second Revised Volume No. 1, the following tariff sheets to become effective July 1, 2002:

Fourth Revised Sheet No. 50

Substitute Fifth Revised Sheet No. 95B.01

Substitute Seventh Revised Sheet No. 95C

Substitute Second Revised Sheet No. 95H.01

Transwestern states that on March 11, 2002, in Docket No. RM96-1-019, the Commission issued Order No. 587-N. Transwestern made its tariff filing implementing provisions of Order 587-N on April 29, 2002, to become effective by July 1, 2002 (April 29 Filing). On June 27, 2002, the Commission issued the order accepting the tariff sheets subject to Transwestern filing revised tariff sheets in accordance with such order. The instant filing is made in compliance with Order No. 587-N and the June 27 Order in Docket No.RP02-236-000 issued June 27, 2002.

Any person desiring to protest said filing should file a protest with the Federal Energy Regulatory Commission, 888 First Street, NE., Washington, DC 20426, in accordance with Section 385.211 of the Commission's Rules and Regulations. All such protests must be filed on or before July 19, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18088 Filed 7-17-02; 8:45 am]

BILLING CODE 6717-01-P